DEPARTMENT OF DEFENSE

Department of the Army

Proposed Mandatory Use of USBank's PowerTrack System by DOD Freight Carriers

Correction

In notice document 00-19796 beginning on page 47970 in the issue of Friday, August 4, 2000, make the following correction:

On page 47970, in the second column, under FOR FURTHER INFORMATION CONTACT:, after “e-mail” add “coltonj@mtmc.army.mil. Additional point of contact is Ms. Kiazan Moneypenny at 703-428-2384,”.

[FR Doc. C0-19796 Filed 8-14-00; 8:45 am]

BILLING CODE 1505-01-D